FEDERAL COMMUNICATIONS COMMISSION

Open Commission Meeting, Thursday, October 27, 2016

October 20, 2016.

The Federal Communications Commission will hold an Open Meeting on the subjects listed below on October 27, 2016 which is scheduled to commence at 10:30 a.m. in Room TW-C305, at 445 12th Street SW., Washington, DC.

Item No. | Bureau | Subject
1 | Wireline Competition | Title: Protecting the Privacy of Customers of Broadband and Other Telecommunications Services Alerts (WC Docket No. 16-106) Summary: The Commission will consider a Report and Order that applies the privacy requirements of the Communications Act to broadband Internet access service providers and other telecommunications services to provide broadband customers with the tools they need to make informed decisions about the use and sharing of their information by their broadband providers.
2 | Enforcement | Title: Locus Telecommunications, Inc. Summary: The Commission will consider a Memorandum Opinion and Order that dismisses and denies a Petition for Reconsideration of a Forfeiture Order issued by the Commission for the deceptive marketing of prepaid calling cards.
3 | Enforcement | Title: Lyca Tel, LLC Summary: The Commission will consider a Memorandum Opinion and Order that dismisses and denies a Petition for Reconsideration of a Forfeiture Order issued by the Commission for the deceptive marketing of prepaid calling cards.
4 | Enforcement | Title: Touch-Tel USA, LLC Summary: The Commission will consider a Memorandum Opinion and Order that dismisses and denies a Petition for Reconsideration of a Forfeiture Order issued by the Commission for the deceptive marketing of prepaid calling cards.
5 | Enforcement | Title: NobelTel, LLC Summary: The Commission will consider a Memorandum Opinion and Order that dismisses and denies a Petition for Reconsideration of a Forfeiture Order issued by the Commission for the deceptive marketing of prepaid calling cards.

Consent Agenda

The Commission will consider the following subjects listed below as a consent agenda and these items will not be presented individually:

1 | Media | Title: Community Radio of Decorah, Postville and Northeast Iowa for a Construction Permit for New Low-Power FM Broadcast Station KCOD-LP, Decorah, Iowa Summary: The Commission will consider a Memorandum Opinion and Order concerning an Application for Review filed by Wennes Communications Stations, Inc., and Decorah Broadcasting, Inc. regarding the grant of a construction permit for low-power FM station KCOD-LP.
2 | Media | Title: Open Arms Community of El Paso, Application to Construct a New Noncommercial Educational FM Station at Horizon City, Texas; Christian Ministries of El Paso, Inc., Application to Construct a New Noncommercial Educational FM Station at Horizon City, Texas, NCE October 2007 Window, MX Group 431 Summary: The Commission will consider a Memorandum Opinion and Order concerning a Petition for Reconsideration and Petition for Reinstatement Nunc Pro Tunc and Application for Review regarding applications for new NCE construction permits in NCE MX Group 431.
3 | General Counsel | Title: In the Matter of John Anderson on Request for Inspection of Records (FOIA Control No. 2014-295) Summary: The Commission will consider a Memorandum Opinion and Order concerning an Application for Review filed by John Anderson, which appealed a decision by the Enforcement Bureau addressing his Freedom of Information Act request.

Personnel Actions

The Commission will consider the following personnel actions listed below and these items will not be presented individually:

1 | Managing Director | Title: Personnel Action #1 Summary: The Commission will consider a personnel action.
2 | Managing Director | Title: Personnel Action #2 Summary: The Commission will consider a personnel action.
3 | Managing Director | Title: Personnel Action #3 Summary: The Commission will consider a personnel action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2016-25936 Filed 10-26-16; 8:45 am]

BILLING CODE 6712-01-P